DEPARTMENT OF HEALTH AND HUMAN SERVICES

Program Support Center; Agency Information Collection Activities: Proposed Collections; Comment Request

The Department of Health and Human Services, Program Support Center (PSC) will periodically publish summaries of proposed information collection projects and solicit public comments in compliance with the requirements of section 3506(c)(2)(A) of the Paperwork Reduction Act of 1995. To request more information on the project or to obtain a copy of the information collection plans and instruments, call the PSC Reports Clearance Officer on (301) 443-0433.

Comments are invited on: (a) Whether the proposed collection of information is necessary for the proper performance of the functions of the agency, including whether the information shall have practical utility; (b) the accuracy of the agency's estimate of the burden of the proposed collection of information; (c) ways to enhance the quality, utility and clarity of the information to be collected; and (d) ways to minimize the burden of the collection of information on respondents, including through the use of automated collection techniques or other forms of information technology.

1. HHS Payment Management System Forms (PSC-270 and PSC-272)—0937-0200—Extension. The PSC-270, Request for Advance or Reimbursement, is used to make advances or reimbursement payments to grantees. It serves in place of the SF-270. Respondents: State and local governments; profit and nonprofit businesses and organizations receiving grants from HHS. Total Number of Respondents: 100. Frequency of Response: monthly. Average Burden per Response: 15 minutes. Estimated Annual Burden: 300 hours. The PSC-272, Federal Cash Transactions Report, is used to monitor Federal cash advances to grantees and obtain Federal cash disbursement data. It serves in place of the SF-272. Respondents: State and local governments, profit and nonprofit businesses and institutions receiving grants from HHS. Total Number of Respondents: 15,325. Frequency of Response: quarterly. Average Burden per Response: 3 hours. Estimated Annual Burden: 183,900 hours. Total Burden: 184,200 hours.

Send comments to Irene West, PSC Reports Clearance Officer, Room 17A39, Parklawn Building, 5600 Fishers Lane, Rockville, MD 20857. Written comments should be received within 60 days of this notice.

Dated: September 3, 2002.
Mike Blank,
Deputy Assistant Secretary for Program Support.

[FR Doc. 02-23344 Filed 9-12-02; 8:45 am]

BILLING CODE 4168-17-M